OFFICE OF THE UNITED STATES TRADE REPRESENTATIVE

Trade Preferences for Nepal: Request for Public Comments on Review of Nepal's Country Eligibility

AGENCY: Office of the United States Trade Representative.

ACTION: Notice and request for comments.

SUMMARY: This notice announces the initiation of a review of the eligibility of Nepal to receive preferential treatment for the articles described in the Trade Facilitation and Trade Enforcement Act of 2015. The South Asia Subcommittee of the Trade Policy Staff Committee is developing recommendations for the President on Nepal's eligibility. The Subcommittee is requesting written comments from the public for this review. The Subcommittee will consider the written comments in developing its recommendations for the President. This notice identifies the eligibility criteria that the President must consider in determining whether to provide preferential treatment to certain articles from Nepal.

FOR FURTHER INFORMATION CONTACT: Dawn Shackleford, Deputy Assistant U.S. Trade Representative for India, or Aimee Larsen, Director for GSP, Office of the United States Trade Representative, 600 17th Street NW., Washington DC 20508. The telephone numbers are (202) 395-9658 or (202) 395-2974, respectively. The email addresses are Dawn_Shackleford@ustr.eop.gov or Aimee_B_Larsen@ustr.eop.gov.

DATES: Public comments are due by 5:00 p.m., 30 days from the date of publication of this Federal Register Notice.

Background Information

The Trade Facilitation and Trade Enforcement Act of 2015 (Sec. 915 of P.L. 114-125) authorizes the President to designate Nepal as eligible for preferential treatment for certain articles. The President may authorize the provision of preferential treatment for certain articles imported directly from Nepal if the President determines that Nepal meets the eligibility criteria set forth in: (1) Paragraphs (1), (2), and (3) of section 104(a) of African Growth and Opportunity Act (AGOA), as amended (Title I of the Trade and Development Act of 2000, Pub. L. 106-200) (19 U.S.C. 3703(a)); and (2) section 502 of the Generalized System of Preferences (GSP) (Title V of the Trade Act of 1974) (1974 Act) (19 U.S.C. 2462).

Section 104(a) of AGOA includes requirements that the country has established or is making continual progress toward establishing, inter alia: A market-based economy; the rule of law, political pluralism, and the right to due process; the elimination of barriers to U.S. trade and investment; economic policies to reduce poverty; a system to combat corruption and bribery; and the protection of internationally recognized worker rights. In addition, AGOA provides that the country may not engage in activities that undermine U.S. national security or foreign policy interests or engage in gross violations of internationally recognized human rights or provide support for acts of international terrorism.

Section 502(b) of the 1974 Act includes bases for ineligibility for benefits and section 502(c) includes factors that the President shall take into account in determining whether to provide benefits under the GSP. Among the factors that the President shall take into account under section 502(c) include: An expression by the country to be designated as a beneficiary; the level of economic development; whether or not other major developed countries are providing preferential treatment; the extent to which the country has assured the United States that it will provide market access and refrain from unreasonable export practices; the extent to which the county is providing adequate and effective protection of intellectual property rights; the extent to which the country has taken action to reduce trade distorting investment practices and policies and reduce or eliminate barriers to trade in services; and whether or not the country has taken or is taking steps to afford workers with internationally recognized worker rights.

Please see section paragraphs (1), (2) and (3) 104(a) of AGOA and section 502 of the 1974 Act for a complete list of relevant eligibility criteria.

Separately, before providing preferential treatment to any article from Nepal, the President must also determine, after receiving the advice of the United States International Trade Commission, that these articles are not import sensitive in the context of imports from Nepal.

Requirements for Submissions

Persons submitting written comments must do so electronically by 5:00 p.m., 30 days from the date of publication of this Federal Register Notice, using www.regulations.gov, docket number USTR-2016-0005. Instructions for submitting business confidential versions are provided below. Hand-delivered submissions will not be accepted. All written materials must be submitted in English to the Chairman of the South Asia Subcommittee of the TPSC.

To make a submission using http://www.regulations.gov, enter the docket number in the “Search for” field on the home page and click “Search.” The site will provide a search-results page listing all documents associated with this docket. Find a reference to this notice by selecting “Notice” under “Document Type” in the “Filter Results by” section on the left side of the screen and click on the link entitled “Comment Now.” The site offers the option of providing comments by filling in a “Type Comment” field or by attaching a document using the “Upload file(s)” field. The South Asia Subcommittee prefers that submissions be provided as an attached document. Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review.

Business Confidential Submissions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

Public Viewing of Review Submissions

Submissions in response to this notice, except for information granted “business confidential” status under 15 CFR 2003.6, will be available for public viewing pursuant to 15 CFR 2007.6 at http://www.regulations.gov upon completion of processing. Such submissions may be viewed by entering the country-specific docket number in the search field at http://www.regulations.gov.

Dawn Shackleford,
Deputy Assistant U.S. Trade Representative for India, Office of the U.S. Trade Representative.

[FR Doc. 2016-06926 Filed 3-25-16; 8:45 am]

BILLING CODE 3290-F6-P